DEPARTMENT OF DEFENSE

Office of the Secretary

32 CFR Part 45

[Docket ID: DOD-2017-OS-0044]

RIN 0790-AJ88

Certificate of Release or Discharge From Active Duty (DD Form 214/5 Series)

AGENCY: Office of the Under Secretary of Defense for Personnel and Readiness, Department of Defense.

ACTION: Final rule.

SUMMARY: This final rule removes the DoD's regulation concerning the certificate of release or discharge from active duty (Department of Defense Form (DD Form) 214/5 Series). DoD has determined that the rule has no impact on the general public; rather, the rule focuses on internal DoD management and personnel matters. Therefore, this part is unnecessary and can be removed from the CFR.

DATES: This rule is effective on December 13, 2017.

FOR FURTHER INFORMATION CONTACT: Kent Bauer, 703-693-4204.

SUPPLEMENTARY INFORMATION: It has been determined that publication of this CFR part removal rule for public comment is unnecessary because it removes DoD internal policies and procedures that are publicly available on the Department's issuance website.

DoD internal guidance concerning the Certificate of Release or Discharge from Active Duty (DD Form 214/5 Series) will continue to be published in DoD Instruction 1336.01 and made available at http://www.esd.whs.mil/Portals/54/Documents/DD/issuances/dodi/133601p.pdf. DoD Instruction 1336.01 will be the authorizing document for the DD Form 214/5 Series.

Repealing this part will reduce unnecessary Federal regulation and associated administrative costs. Because the rule focuses on internal DoD management and personnel matters, however, its repeal will not result in a cost savings for the public.

List of Subjects in 32 CFR Part 45

Armed forces reserves.

PART 45—[REMOVED]

Accordingly, by the authority of 5 U.S.C. 301, 32 CFR part 45 is removed.

Dated: December 8, 2017.
Aaron Siegel,
Alternate OSD Federal Register Liaison Officer, Department of Defense.

[FR Doc. 2017-26886 Filed 12-12-17; 8:45 am]

BILLING CODE 5001-06-P